DEPARTMENT OF TRANSPORTATION

Federal Aviation Administration

14 CFR Part 39

[Docket No. FAA-2020-0691; Product Identifier 2020-NM-064-AD]

RIN 2120-AA64

Airworthiness Directives; MHI RJ Aviation ULC (Type Certificate Previously Held by Bombardier, Inc.) Airplanes

AGENCY: Federal Aviation Administration (FAA), DOT.

ACTION: Notice of proposed rulemaking (NPRM).

SUMMARY: The FAA proposes to adopt a new airworthiness directive (AD) for certain MHI RJ Aviation ULC Model CL-600-2B19 (Regional Jet Series 100 & 440) airplanes. This proposed AD was prompted by evidence that a revised structural life limit of some components of the nose landing gear (NLG) and/or main landing gear (MLG) was not implemented during repair. This proposed AD would require verifying that the affected components are installed on the airplane, revising the structural life limits in the structural deviation inspection requirements (SDIR) airplane document, and replacing affected components if necessary. The FAA is proposing this AD to address the unsafe condition on these products.

DATES: The FAA must receive comments on this proposed AD by November 19, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact MHI RJ Aviation ULC, 12655 Henri-Fabre Blvd., Mirabel, Québec, Canada, J7N 1E1; Widebody Customer Response Center North America toll-free telephone +1-844-272-2720 or direct-dial telephone +1-514-855-8500; fax +1-514-855-8501; email thd.crj@mhirj.com; internet https://mhirj.com. You may view this service information at the FAA, Airworthiness Products Section, Operational Safety Branch, 2200 South 216th St., Des Moines, WA. For information on the availability of this material at the FAA, call 206-231-3195.

Examining the AD Docket

You may examine the AD docket on the internet at https://www.regulations.gov by searching for and locating Docket No. FAA-2020-0691; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Andrea Jimenez, Aerospace Engineer, Airframe and Propulsion Section, FAA, New York ACO Branch, 1600 Stewart Avenue, Suite 410, Westbury, NY 11590; telephone 516-228-7330; fax 516-794-5531; email 9-avs-nyaco-cos@faa.gov.

SUPPLEMENTARY INFORMATION:

Comments Invited

The FAA invites you to send any written relevant data, views, or arguments about this proposal. Send your comments to an address listed under the ADDRESSES section. Include “Docket No. FAA-2020-0691; Product Identifier 2020-NM-064-AD” at the beginning of your comments. The most helpful comments reference a specific portion of the proposal, explain the reason for any recommended change, and include supporting data. The FAA will consider all comments received by the closing date and may amend this NPRM because of those comments.

Except for Confidential Business Information (CBI) as described in the following paragraph, and other information as described in 14 CFR 11.35, the FAA will post all comments received, without change, to https://www.regulations.gov, including any personal information you provide. The FAA will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to the person identified in the FOR FURTHER INFORMATION CONTACT section. Any commentary that the FAA receives which is not specifically designated as CBI will be placed in the public docket for this rulemaking.

Discussion

Transport Canada Civil Aviation (TCCA), which is the aviation authority for Canada, has issued Canadian AD CF-2020-09, dated April 7, 2020 (referred to after this as the Mandatory Continuing Airworthiness Information, or “the MCAI”), to correct an unsafe condition for certain MHI RJ Aviation ULC Model CL-600-2B19 (Regional Jet Series 100 & 440) airplanes. You may examine the MCAI in the AD docket on the internet at https://www.regulations.gov by searching for and locating Docket No. FAA-2020-0691.

This proposed AD was prompted by evidence that some components of the NLG and/or MLG were repaired using Bombardier Repair Engineering Orders (REOs) that resulted in a specific airworthiness limitation (SAL). In certain cases, the related SDIRs were not attached to the REO when the parts were repaired and provided to the operator. Consequently, the SDIR was not incorporated into the SDIR airplane document and the revised life limit of the repaired NLG and/or MLG components, as indicated in the SDIR, was not implemented. Those parts, repaired by REO that resulted in an SDIR, have a structural life limit that is lower than the life limit published in the Maintenance Requirements Manual (MRM). The FAA is proposing this AD to address structural life limits that are lower than the life limit published in the MRM, Part 2. This condition, if not corrected, could lead to the collapse of the affected NLG and/or MLG, possibly resulting in airplane damage and injury to the occupants. See the MCAI for additional background information.

Related Service Information Under 1 CFR Part 51

Bombardier has issued Service Bulletin 601R-32-112, dated November 11, 2019. This service information describes procedures for verifying that affected components are installed on the airplane, revising the structural life limits in the SDIR airplane document, and replacing affected parts if necessary.

The following service information describes certain repairs and structural life limits for the NLG and MLG components. These documents are distinct since they apply to different repair configurations.

• Bombardier Repair Engineering Order (REO) 601R-32-11-086, Revision A, dated October 29, 2015.

• Bombardier Repair Engineering Order (REO) 601R-32-11-089, Revision A, dated October 29, 2015.

• Bombardier Repair Engineering Order (REO) 601R-32-11-183, Revision B, dated January 15, 2013.

• Bombardier Repair Engineering Order (REO) 601R-32-11-0367, Revision A, dated January 23, 2019.

• Bombardier Repair Engineering Order (REO) 601R-32-11-0627, Revision A, dated January 23, 2019.

• Bombardier Repair Engineering Order (REO) 601R-32-11-0630, Revision A, dated January 23, 2019.

• Bombardier Repair Engineering Order (REO) 601R-32-11-634, Revision A, dated October 29, 2015.

• Bombardier Repair Engineering Order (REO) 601R-32-11-0712, Revision A, dated January 23, 2019.

• Bombardier Repair Engineering Order (REO) 601R-32-11-0783, Revision A, dated January 23, 2019.

• Bombardier Repair Engineering Order (REO) 601R-32-11-786, Revision A, dated January 23, 2019.

• Bombardier Repair Engineering Order (REO) 601R-32-11-835, Revision A, dated October 29, 2015.

• Bombardier Repair Engineering Order (REO) 601R-32-11-0913, Revision C, dated January 23, 2019.

• Bombardier Repair Engineering Order (REO) 601R-32-11-918, Revision B, dated January 15, 2014.

• Bombardier Repair Engineering Order (REO) 601R-32-11-921, Revision A, dated October 29, 2015.

• Bombardier Repair Engineering Order (REO) 601R-32-11-0951, Revision B, dated January 23, 2019.

• Bombardier Repair Engineering Order (REO) 601R-32-11-0955, Revision B, dated January 23, 2019.

• Bombardier Repair Engineering Order (REO) 601R-32-11-956, Revision A, dated January 15, 2014.

• Bombardier Repair Engineering Order (REO) 601R-32-11-0958, Revision B, dated January 23, 2019.

• Bombardier Repair Engineering Order (REO) 601R-32-11-1017, Revision A, dated July 15, 2011.

• Bombardier Repair Engineering Order (REO) 601R-32-11-1041, Revision A, dated October 29, 2015.

• Bombardier Repair Engineering Order (REO) 601R-32-11-1084, Revision A, dated January 15, 2014.

• Bombardier Repair Engineering Order (REO) 601R-32-11-1153, Revision A, dated January 15, 2014.

• Bombardier Repair Engineering Order (REO) 601R-32-11-1154, Revision B, dated January 23, 2019.

• Bombardier Repair Engineering Order (REO) 601R-32-11-1187, Revision B, dated January 23, 2019.

• Bombardier Repair Engineering Order (REO) 601R-32-11-1206, Revision B, dated January 23, 2019.

• Bombardier Repair Engineering Order (REO) 601R-32-11-1219, Revision B, dated January 23, 2019.

• Bombardier Repair Engineering Order (REO) 601R-32-11-1220, Revision B, dated January 23, 2019.

• Bombardier Repair Engineering Order (REO) 601R-32-11-1224, Revision B, dated January 23, 2019.

• Bombardier Repair Engineering Order (REO) 601R-32-11-1250, Revision A, dated January 15, 2014.

• Bombardier Repair Engineering Order (REO) 601R-32-11-1251, Revision B, dated January 23, 2019.

• Bombardier Repair Engineering Order (REO) 601R-32-11-1255, Revision B, dated January 23, 2019.

• Bombardier Repair Engineering Order (REO) 601R-32-11-1286, Revision B, dated January 23, 2019.

• Bombardier Repair Engineering Order (REO) 601R-32-11-1302, Revision B, dated January 23, 2019.

• Bombardier Repair Engineering Order (REO) 601R-32-11-1650, Revision A, dated January 23, 2019.

• Bombardier Repair Engineering Order (REO) 601R-32-11-1673, Revision A, dated January 23, 2019.

• Bombardier Repair Engineering Order (REO) 601R-32-21-0225, Revision C, dated January 23, 2019.

• Bombardier Repair Engineering Order (REO) 601R-32-21-0227, Revision B, dated January 23, 2019.

• Bombardier Repair Engineering Order (REO) 601R-32-21-414, Revision A, dated February 25, 2015.

• Bombardier Repair Engineering Order (REO) 601R-32-21-489, Revision A, dated October 29, 2015.

• Bombardier Repair Engineering Order (REO) 601R-32-21-0526, Revision B, dated January 23, 2019.

• Bombardier Repair Engineering Order (REO) 601R-32-21-535, Revision A, dated February 17, 2015.

• Bombardier Repair Engineering Order (REO) 601R-32-21-0536, Revision B, dated January 23, 2019.

• Bombardier Repair Engineering Order (REO) 601R-32-21-0555, Revision B, dated January 23, 2019.

• Bombardier Repair Engineering Order (REO) 601R-32-21-0557, Revision B, dated January 23, 2019.

• Bombardier Repair Engineering Order (REO) 601R-32-21-0562, Revision B, dated January 23, 2019.

• Bombardier Repair Engineering Order (REO) 601R-32-21-570, Revision A, dated February 25, 2015.

• Bombardier Repair Engineering Order (REO) 601R-32-21-0635, Revision B, dated January 23, 2019.

• Bombardier Repair Engineering Order (REO) 601R-32-21-0661, Revision B, dated January 23, 2019.

• Bombardier Repair Engineering Order (REO) 601R-32-21-0663, Revision B, dated January 23, 2019.

• Bombardier Repair Engineering Order (REO) 601R-32-21-0685, Revision B, dated January 23, 2019.

• Bombardier Repair Engineering Order (REO) 601R-32-21-0689, Revision B, dated January 23, 2019.

• Bombardier Repair Engineering Order (REO) 601R-32-21-0691, Revision B, dated January 23, 2019.

• Bombardier Repair Engineering Order (REO) 601R-32-21-0692, Revision C, dated January 23, 2019.

• Bombardier Repair Engineering Order (REO) 601R-32-21-0693, Revision B, dated January 23, 2019.

• Bombardier Repair Engineering Order (REO) 601R-32-21-1002, Revision A, dated January 23, 2019.

• Bombardier Repair Engineering Order (REO) 601R-32-21-1022, Revision A, dated January 23, 2019.

• Bombardier Repair Engineering Order (REO) 601R-32-32-0056, Revision C, dated January 23, 2019.

• Bombardier Repair Engineering Order (REO) 601R-32-32-0076, Revision B, dated January 23, 2019.

This service information is reasonably available because the interested parties have access to it through their normal course of business or by the means identified in the ADDRESSES section.

FAA's Determination

This product has been approved by the aviation authority of another country, and is approved for operation in the United States. Pursuant to our bilateral agreement with the State of Design Authority, the FAA has been notified of the unsafe condition described in the MCAI and service information referenced above. The FAA is proposing this AD because the FAA evaluated all the relevant information and determined the unsafe condition described previously is likely to exist or develop on other products of the same type design.

Proposed Requirements of this NPRM

This proposed AD would require accomplishing the actions specified in the service information described previously, except as discussed under “Differences Between this Proposed AD and the MCAI or Service Information.”

Costs of Compliance

The FAA estimates that this proposed AD affects 456 airplanes of U.S. registry. The FAA estimates the following costs to comply with this proposed AD:

Estimated Costs for Required Actions
Labor cost | Parts cost | Cost per product | Cost on U.S. operators
Up to 143 work-hours × $85 per hour = Up to $12,155 | Up to $103,114 | Up to $115,269 | Up to $52,562,664.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

MHI RJ Aviation ULC (Type Certificate Previously Held by Bombardier, Inc.): Docket No. FAA-2020-0691; Product Identifier 2020-NM-064-AD.

(a) Comments Due Date

The FAA must receive comments by November 19, 2020.

(b) Affected ADs

None.

(c) Applicability

This AD applies to MHI RJ Aviation ULC (type certificate previously held by Bombardier, Inc.) Model CL-600-2B19 (Regional Jet Series 100 & 440) airplanes, certificated in any category, serial numbers 7003 through 8999 inclusive.

(d) Subject

Air Transport Association (ATA) of America Code 32, Landing gear.

(e) Reason

This AD was prompted by evidence that a revised structural life limit of some components of the nose landing gear (NLG) and/or main landing gear (MLG) was not implemented during repair. The FAA is issuing this AD to address structural life limits that are lower than the life limits published in the Maintenance Requirements Manual (MRM), Part 2. This condition, if not corrected, could lead to the collapse of the affected NLG and/or MLG, possibly resulting in airplane damage and injury to the occupants.

(f) Compliance

Comply with this AD within the compliance times specified, unless already done.

(g) Verification of Airplane or Technical Records

Within 6 months from the effective date of this AD: Verify the airplane or technical records to determine if an NLG or MLG component listed in Table 1 or Table 2 of Bombardier Service Bulletin 601R-32-112, dated November 11, 2019, is installed on the airplane. If this verification determines that an affected component listed in Table 1 or Table 2 of Bombardier Service Bulletin 601R-32-112, dated November 11, 2019, is installed on the airplane, perform the actions specified in paragraph (h) or (i) of this AD, as applicable.

(h) Incorporation of the SDIR Life Limit Into the SDIR Airplane Document

If the total flight cycles of the component is less than the revised SDIR life limit specified in the applicable REO identified in paragraphs (h)(1) through (58) of this AD minus 2,000 flight cycles: Within 12 months after completing the actions specified in paragraph (g) of this AD, incorporate the revised life limit of the affected component into the existing SDIR airplane document as specified in the applicable REO identified in paragraphs (h)(1) through (58) of this AD.

(1) Bombardier Repair Engineering Order (REO) 601R-32-11-086, Revision A, dated October 29, 2015.

(2) Bombardier Repair Engineering Order (REO) 601R-32-11-089, Revision A, dated October 29, 2015.

(3) Bombardier Repair Engineering Order (REO) 601R-32-11-183, Revision B, dated January 15, 2013.

(4) Bombardier Repair Engineering Order (REO) 601R-32-11-0367, Revision A, dated January 23, 2019.

(5) Bombardier Repair Engineering Order (REO) 601R-32-11-0627, Revision A, dated January 23, 2019.

(6) Bombardier Repair Engineering Order (REO) 601R-32-11-0630, Revision A, dated January 23, 2019.

(7) Bombardier Repair Engineering Order (REO) 601R-32-11-634, Revision A, dated October 29, 2015.

(8) Bombardier Repair Engineering Order (REO) 601R-32-11-0712, Revision A, dated January 23, 2019.

(9) Bombardier Repair Engineering Order (REO) 601R-32-11-0783, Revision A, dated January 23, 2019.

(10) Bombardier Repair Engineering Order (REO) 601R-32-11-786, Revision A, dated January 23, 2019.

(11) Bombardier Repair Engineering Order (REO) 601R-32-11-835, Revision A, dated October 29, 2015.

(12) Bombardier Repair Engineering Order (REO) 601R-32-11-0913, Revision C, dated January 23, 2019.

(13) Bombardier Repair Engineering Order (REO) 601R-32-11-918, Revision B, dated January 15, 2014.

(14) Bombardier Repair Engineering Order (REO) 601R-32-11-921, Revision A, dated October 29, 2015.

(15) Bombardier Repair Engineering Order (REO) 601R-32-11-0951, Revision B, dated January 23, 2019.

(16) Bombardier Repair Engineering Order (REO) 601R-32-11-0955, Revision B, dated January 23, 2019.

(17) Bombardier Repair Engineering Order (REO) 601R-32-11-956, Revision A, dated January 15, 2014.

(18) Bombardier Repair Engineering Order (REO) 601R-32-11-0958, Revision B, dated January 23, 2019.

(19) Bombardier Repair Engineering Order (REO) 601R-32-11-1017, Revision A, dated July 15, 2011.

(20) Bombardier Repair Engineering Order (REO) 601R-32-11-1041, Revision A, dated October 29, 2015.

(21) Bombardier Repair Engineering Order (REO) 601R-32-11-1084, Revision A, dated January 15, 2014.

(22) Bombardier Repair Engineering Order (REO) 601R-32-11-1153, Revision A, dated January 15, 2014.

(23) Bombardier Repair Engineering Order (REO) 601R-32-11-1154, Revision B, dated January 23, 2019.

(24) Bombardier Repair Engineering Order (REO) 601R-32-11-1187, Revision B, dated January 23, 2019.

(25) Bombardier Repair Engineering Order (REO) 601R-32-11-1206, Revision B, dated January 23, 2019.

(26) Bombardier Repair Engineering Order (REO) 601R-32-11-1219, Revision B, dated January 23, 2019.

(27) Bombardier Repair Engineering Order (REO) 601R-32-11-1220, Revision B, dated January 23, 2019.

(28) Bombardier Repair Engineering Order (REO) 601R-32-11-1224, Revision B, dated January 23, 2019.

(29) Bombardier Repair Engineering Order (REO) 601R-32-11-1250, Revision A, dated January 15, 2014.

(30) Bombardier Repair Engineering Order (REO) 601R-32-11-1251, Revision B, dated January 23, 2019.

(31) Bombardier Repair Engineering Order (REO) 601R-32-11-1255, Revision B, dated January 23, 2019.

(32) Bombardier Repair Engineering Order (REO) 601R-32-11-1286, Revision B, dated January 23, 2019.

(33) Bombardier Repair Engineering Order (REO) 601R-32-11-1302, Revision B, dated January 23, 2019.

(34) Bombardier Repair Engineering Order (REO) 601R-32-11-1650, Revision A, dated January 23, 2019.

(35) Bombardier Repair Engineering Order (REO) 601R-32-11-1673, Revision A, dated January 23, 2019.

(36) Bombardier Repair Engineering Order (REO) 601R-32-21-0225, Revision C, dated January 23, 2019.

(37) Bombardier Repair Engineering Order (REO) 601R-32-21-0227, Revision B, dated January 23, 2019.

(38) Bombardier Repair Engineering Order (REO) 601R-32-21-414, Revision A, dated February 25, 2015.

(39) Bombardier Repair Engineering Order (REO) 601R-32-21-489, Revision A, dated October 29, 2015.

(40) Bombardier Repair Engineering Order (REO) 601R-32-21-0526, Revision B, dated January 23, 2019.

(41) Bombardier Repair Engineering Order (REO) 601R-32-21-535, Revision A, dated February 17, 2015.

(42) Bombardier Repair Engineering Order (REO) 601R-32-21-0536, Revision B, dated January 23, 2019.

(43) Bombardier Repair Engineering Order (REO) 601R-32-21-0555, Revision B, dated January 23, 2019.

(44) Bombardier Repair Engineering Order (REO) 601R-32-21-0557, Revision B, dated January 23, 2019.

(45) Bombardier Repair Engineering Order (REO) 601R-32-21-0562, Revision B, dated January 23, 2019.

(46) Bombardier Repair Engineering Order (REO) 601R-32-21-570, Revision A, dated February 25, 2015.

(47) Bombardier Repair Engineering Order (REO) 601R-32-21-0635, Revision B, dated January 23, 2019.

(48) Bombardier Repair Engineering Order (REO) 601R-32-21-0661, Revision B, dated January 23, 2019.

(49) Bombardier Repair Engineering Order (REO) 601R-32-21-0663, Revision B, dated January 23, 2019.

(50) Bombardier Repair Engineering Order (REO) 601R-32-21-0685, Revision B, dated January 23, 2019.

(51) Bombardier Repair Engineering Order (REO) 601R-32-21-0689, Revision B, dated January 23, 2019.

(52) Bombardier Repair Engineering Order (REO) 601R-32-21-0691, Revision B, dated January 23, 2019.

(53) Bombardier Repair Engineering Order (REO) 601R-32-21-0692, Revision C, dated January 23, 2019.

(54) Bombardier Repair Engineering Order (REO) 601R-32-21-0693, Revision B, dated January 23, 2019.

(55) Bombardier Repair Engineering Order (REO) 601R-32-21-1002, Revision A, dated January 23, 2019.

(56) Bombardier Repair Engineering Order (REO) 601R-32-21-1022, Revision A, dated January 23, 2019.

(57) Bombardier Repair Engineering Order (REO) 601R-32-32-0056, Revision C, dated January 23, 2019.

(58) Bombardier Repair Engineering Order (REO) 601R-32-32-0076, Revision B, dated January 23, 2019.

(i) Replacement of Repaired NLG and/or MLG Component

If the total flight cycles of the component is equal to or more than the revised SDIR life limit specified in the applicable REO identified in paragraphs (h)(1) through (58) of this AD minus 2,000 flight cycles: Within 12 months or 2,000 flight cycles, whichever occurs first, after completing the actions specified in paragraph (g) of this AD, replace the affected component with a serviceable component.

(j) Parts Installation Prohibition

As of the effective date of this AD, no person may install any component listed in Table 1 or Table 2 of Bombardier Service Bulletin 601R-32-112, dated November 11, 2019, on any airplane without first incorporating the actions specified in paragraph (h) or (i) of this AD, as applicable.

(k) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain instructions from a manufacturer, the instructions must be accomplished using a method approved by the Manager, New York ACO Branch, FAA; or Transport Canada Civil Aviation (TCCA); or MHI RJ Aviation ULC's TCCA Design Approval Organization (DAO). If approved by the DAO, the approval must include the DAO-authorized signature.

(l) Related Information

(1) Refer to Mandatory Continuing Airworthiness Information (MCAI) Canadian AD CF-2020-09, dated April 7, 2020, for related information. This MCAI may be found in the AD docket on the internet at https://www.regulations.gov by searching for and locating Docket No. FAA-2020-0691.

(2) For more information about this AD, contact Andrea Jimenez, Aerospace Engineer, Airframe and Propulsion Section, FAA, New York ACO Branch, 1600 Stewart Avenue, Suite 410, Westbury, NY 11590; telephone 516-228-7330; fax 516-794-5531; email 9-avs-nyaco-cos@faa.gov.

(3) For service information identified in this AD, contact MHI RJ Aviation ULC, 12655 Henri-Fabre Blvd., Mirabel, Québec, Canada, J7N 1E1; Widebody Customer Response Center North America toll-free telephone +1-844-272-2720 or direct-dial telephone +1-514-855-8500; fax +1-514-855-8501; email thd.crj@mhirj.com; internet https://mhirj.com. You may view this service information at the FAA, Airworthiness Products Section, Operational Safety Branch, 2200 South 216th St., Des Moines, WA. For information on the availability of this material at the FAA, call 206-231-3195.

Issued on August 10, 2020.
Lance T. Gant,
Director, Compliance & Airworthiness Division, Aircraft Certification Service.

[FR Doc. 2020-21882 Filed 10-2-20; 8:45 am]

BILLING CODE 4910-13-P